NATIONAL LABOR RELATIONS BOARD

Notice of Appointments of Individuals To Serve as Members of Performance Review Boards

AGENCY: National Labor Relations Board.

ACTION: Notice; appointment to serve as members of performance review boards.

SUMMARY: The National Labor Relations Board is issuing this notice that the individuals whose names and position titles appear below have been appointed to serve as members of performance review boards in the National Labor Relations Board for the rating year beginning October 1, 2023 and ending September 30, 2024.

FOR FURTHER INFORMATION CONTACT: Roxanne L. Rothschild, Executive Secretary, National Labor Relations Board, 1015 Half Street SE, Washington, DC 20570, (202) 273-1940 (this is not a toll-free number), 1-866-315-6572 (TTY/TDD).

SUPPLEMENTARY INFORMATION:

Name and Title

Joan A. Sullivan—Associate General Counsel, Division of Operations Management

Peter Sung Ohr -Deputy General Counsel, Office of the General Counsel

Nancy Kessler Platt—Associate General Counsel, Division of Legal Counsel

Andrew Krafts—Executive Assistant to the Chairman (Chief of Staff), The Board

Grant Kraus—Deputy Chief Counsel, The Board

Ruth Burdick—(alternate) Deputy Associate General Counsel, Division of Enforcement Litigation, Appellate and Supreme Court Litigation Branch

Authority: 5 U.S.C. 4314(c)(4).

By Direction of the Board.
Dated: October 23, 2024.
Roxanne L. Rothschild,
Executive Secretary.

[FR Doc. 2024-25036 Filed 10-28-24; 8:45 am]

BILLING CODE 7545-01-P